FEDERAL ELECTION COMMISSION

Sunshine Act Meeting Notice

DATE and TIME: Thursday, January 25, 2007, at 10 a.m

PLACE: 999 E Street, NW., Washington, DC (Ninth Floor).

STATUS: This Meeting Will Be Open to the Public.

ITEMS TO BE DISCUSSED: Correction and Approval of Minutes.

Advisory Opinion 2006-35: Kolbe for Congress, by William H. Kelley, Treasurer.

Advisory Opinion 2006-37: Barry J. Kissin and Kissin for Congress.

PERSON TO CONTACT FOR INFORMATION: Mr. Robert Biersack, Press Officer, Telephone: (202) 694-1220.

Mary W. Dove,
Secretary of the Commission.

[FR Doc. 07-269 Filed 1-18-07; 3:48 pm]

BILLING CODE 6715-01-M